DEPARTMENT OF TRANSPORTATION

Federal Aviation Administration

14 CFR Part 25

[Docket No. NM346, Notice No. 25-06-05-SC]

Special Conditions: Airbus Model A380-800 Airplane; Reinforced Flightdeck Bulkhead

AGENCY: Federal Aviation Administration, DOT.

ACTION: Notice of proposed special conditions; correction.

SUMMARY: This document corrects an error that appeared in Docket No. NM317, Notice No. 25-05-12-SC, which was published in the Federal Register on April 11, 2006 (71 FR 18236). The error is in the Docket No. and the Notice No. and is being corrected herein.

DATES: Effective Date: The effective date of this correction is June 15, 2006.

FOR FURTHER INFORMATION CONTACT: Madeleine Kolb, FAA, Standardization Branch, ANM-113, Transport Airplane Directorate, Aircraft Certifications Service, 1601 Lind Avenue, SW., Renton, WA 98055-4056; telephone (425) 227-2799; facsimile (425) 227-1149.

SUPPLEMENTARY INFORMATION: The document designated as “Docket No. NM317, Notice No. 25-05-12-SC” was published in the Federal Register on April 11, 2006 (71 FR 18236). The document proposed special conditions pertaining to the reinforced flightdeck bulkhead for the Airbus Model A380-800 airplane.

As published, the document contained an error in that the Docket No. was shown as NM317, and the Notice No. was shown as 25-05-12-SC; these are the numbers of a separate set of special conditions, pertaining to flotation and ditching for the Airbus Model A380-800 airplane. To avoid confusion, a new Docket No., NM346, and a new Notice No., 25-06-05-SC, have been assigned to “Special Conditions: Airbus Model A380-800 Airplane, Reinforced Flightdeck Bulkhead.”

Since no other part of the regulatory information has been changed, the Notice of proposed special conditions is not being republished.

Correction

In Notice of proposed special conditions document [FR Doc. E6-5240 Filed 4-10-06; 8:45 am] and published on April 11, 2006 (71 FR 18236), make the following correction:

1. On page 18236, in the first column in the Headings section, correct “Docket No. NM317; Notice No. 25-05-12-SC” to read “Docket No. NM346; Notice No. 25-06-05-SC.”

Issued in Renton, Washington on June 15, 2006.
Ali Bahrami,
Manager, Transport Airplane Directorate, Aircraft Certification Service.

[FR Doc. E6-10675 Filed 7-6-06; 8:45 am]

BILLING CODE 4910-13-P